DEPARTMENT OF THE TREASURY

United States Mint

Establish Prices for 2023 Morgan and Peace Two-Coin Reverse Proof Set™

AGENCY: United States Mint, Department of the Treasury.

ACTION: Notice.

SUMMARY: The United States Mint is announcing pricing for United States Mint numismatic products in accordance with the table below:

Product | 2023 Retail price
Morgan and Peace Two-Coin Reverse Proof Set | $185

FOR FURTHER INFORMATION CONTACT: Kai Washington, United States Mint, 801 9th Street NW, Washington, DC 20220, or call 1-202-354-7662.

Authority: Public Law 116-286.

Eric Anderson,
Executive Secretary, United States Mint.

[FR Doc. 2023-04444 Filed 3-2-23; 8:45 am]

BILLING CODE 4810-37-P